DEPARTMENT OF COMMERCE

National Oceanic and Atmospheric Administration

50 CFR Parts 223 and 224

[I.D. 111901A]

Exemption to No-entry Zone Around Chirikof Island, AK

AGENCY: National Marine Fisheries Service (NMFS), National Oceanic and Atmospheric Administration (NOAA), Commerce.

ACTION: Notification of authorized exemption to the 3-nautical mile (nm) no-entry zone around Chirikof Island, AK.

SUMMARY: Pursuant to regulations under the Endangered Species Act, the Regional Administrator, Alaska Region, NMFS, is authorizing an exemption to the 3-nm, no-entry zone around Chirikof Island for the sole purpose of livestock removal by the U.S. Fish and Wildlife Service. Regulations allow an exemption to the no-entry zone, provided that the activity is authorized by the Regional Administrator, Alaska Region, NMFS, that the activity will not have a significant adverse effect on Steller sea lions, and that no readily available and acceptable alternative site exists for the activity.

SUPPLEMENTARY INFORMATION: On October 4, 2001, the U.S. Fish And Wildlife Service (USFWS) requested an exemption under Federal regulations for the management of the Steller sea lions (at 50 CFR parts 223 and 224) to allow for passage through the 3-nm no-entry zone in the Southwest Anchorage of Chirikof Island to facilitate livestock removal. Chirikof Island is part of the Alaska Maritime National Wildlife Refuge. The USFWS is working cooperatively with a private consortium to remove unauthorized livestock from refuge lands on Chirikof Island to facilitate the natural recovery of the ecosystem health of the island after more than a century of livestock grazing. This activity is part of an overall effort to remove introduced animals, including cattle and feral foxes, from the island.

USFWS proposes to remove livestock over a 2-year period beginning in October 2001. All activities will occur in areas outside the exclusion zones established for the listed Steller sea lion rookery, except at the Southwest Anchorage of the island, which is located several miles from, and out of sight of, the rookery. Therefore, the rookery should not be disturbed by this activity.

Regulations governing endangered species (50 CFR part 224) state that provisions in part 223 also apply to the endangered western stock of Steller sea lions. Section 223.202 (b)(5) allows an exemption to the no-entry zone provided that the activity is authorized by the Regional Administrator, Alaska Region, NMFS, that the activity will not have a significant adverse effect on Steller sea lions, and that no readily available and acceptable alternative site exists for the activity. The Regional Administrator has determined that this activity will not adversely affect Steller sea lions. Therefore, NMFS granted an exemption from the 3-nm no-entry restriction around Chirikof Island, AK for the removal of livestock and other appropriate feral wildlife by the USFWS. All other provisions included in 50 CFR 223.202 (a) apply.

Dated: November 23, 2001.
David Cottingham
Acting Director, Office of Protected Resources, National Marine Fisheries Service.

[FR Doc. 01-29767 Filed 11-29-01; 8:45 am]

BILLING CODE 3510-22-S